DEPARTMENT OF HEALTH AND HUMAN SERVICES

Centers for Medicare & Medicaid Services

[CMS-5033-N3]

Medicare Program; Meeting of the Advisory Board on the Demonstration of a Bundled Case-Mix Adjusted Payment System for End-Stage Renal Disease Services

AGENCY: Centers for Medicare & Medicaid Services (CMS), HHS.

ACTION: Notice.

SUMMARY: This notice announces the second public meeting of the Advisory Board on the Demonstration of a Bundled Case-Mix Adjusted Payment System for End-Stage Renal Disease (ESRD) Services. Notice of this meeting is required by the Federal Advisory Committee Act (5 U.S.C. App. 2, section 10(a)(1) and (a)(2)). The Advisory Board will provide advice and recommendations with respect to the establishment and operation of the demonstration mandated by section 623(e) of the Medicare Prescription Drug, Improvement, and Modernization Act of 2003.

DATES: The meeting is on April 13, 2005 from 9 a.m. to 5 p.m., eastern standard time.

Special Accomodations: Persons attending the meeting who are hearing or visually impaired or have a condition that requires special assistance or accommodations are asked to notify Pamela Kelly by April 6, 2005 by e-mail at ESRDAdvisoryBoard@cms.hhs.gov or by telephone at (410) 786-2461.

ADDRESSES: The meeting will be held at the Hyatt Regency, 300 Light Street, Baltimore, MD 21202.

Attendance is limited to the space available, so seating will be on a first come, first served basis.

Web site: Up-to-date information on this meeting is located at http://www.cms.hhs.gov/faca/esrd.

Hotline: Up-to-date information on this meeting is located on the CMS Advisory Committee Hotline at 1 (877) 449-5659 (toll free) or in the Baltimore area at (410) 786-9379.

FOR FURTHER INFORMATION CONTACT: Pamela Kelly by e-mail at ESRDAdvisoryBoard@cms.hhs.gov or telephone at (410) 786-2461.

SUPPLEMENTARY INFORMATION: On June 2, 2004, we published a Federal Register notice requesting nominations for individuals to serve on the Advisory Board on the Demonstration of a Bundled Case-Mix Adjusted Payment System for End-Stage Renal Disease (ESRD) Services. The June 2, 2004 notice also announced the establishment of the Advisory Board and the signing by the Secretary on May 11, 2004 of the charter establishing the Advisory Board. On January 28, 2005, we published a Federal Register notice (70 FR 4132) announcing the appointment of eleven individuals to serve as members of the Advisory Board on the Demonstration of a Bundled Case-Mix Adjusted Payment System for ESRD Services, including one individual to serve as co-chairperson, and one additional co-chairperson, who is employed by CMS. The first public meeting of the Advisory Board was held on February 16, 2005. This notice announces the second public meeting of this Advisory Board.

I. Topics of the Advisory Board Meeting

The Advisory Board on the Demonstration of a Bundled Case-Mix Adjusted Payment System for ESRD Services will study and make recommendations on the following issues:

• The drugs, biologicals, and clinical laboratory tests to be bundled into the demonstration payment rates.

• The method and approach to be used for the patient characteristics to be included in the fully case-mix adjusted demonstration payment system.

• The manner in which payment for bundled services provided by non-demonstration providers should be handled for beneficiaries participating in the demonstration.

• The feasibility of providing financial incentives and penalties to organizations operating under the demonstration that meet or fail to meet applicable quality standards.

• The specific quality standards to be used.

• The feasibility of using disease management techniques to improve quality and patient satisfaction and reduce costs of care for the beneficiaries participating in the demonstration.

• The selection criteria for demonstration organizations.

II. Procedure and Agenda of the Advisory Board Meeting

This meeting is open to the public. The Advisory Board will hear background presentations from CMS. The Advisory Board will then deliberate openly on the general topic and will make recommendations on specific topics for future meetings. The Advisory Board will also allow a 30-minute opportunity for public remarks or presentations. Interested parties may speak or ask questions during this time. Comments may be limited by the time available. Written questions should be submitted by April 6, 2005 to ESRDAdvisoryBoard@cms.hhs.gov. Parties may also submit written comments following the meeting to the contact listed under the FOR FURTHER INFORMATION CONTACT section of this notice.

Authority: 5 U.S.C. App. 2, section 10(a). (Catalog of Federal Domestic Assistance Program No. 93.774, Medicare—Supplementary Medical Insurance Program)

Dated: March 10, 2005.
Mark B. McClellan,
Administrator, Centers for Medicare & Medicaid Services.

[FR Doc. 05-5920 Filed 3-24-05; 8:45 am]

BILLING CODE 4120-01-P